ENVIRONMENTAL PROTECTION AGENCY

[ER-FRL-8997-1]

Environmental Impacts Statements; Notice of Availability

Responsible Agency: Office of Federal Activities, General Information (202) 564-1399 or http://www.epa.gov/compliance/nepa/.

Weekly receipt of Environmental Impact Statements

Filed 05/09/2011 through 05/13/2011.

Notice

In accordance with Section 309(a) of the Clean Air Act, EPA is required to make its comments on EISs issued by other Federal agencies public. Historically, EPA met this mandate by publishing weekly notices of availability of EPA comments, which includes a brief summary of EPA's comment letters, in the Federal Register. Since February 2008, EPA has included its comment letters on EISs on its Web site at: http://www.epa.gov/compliance/nepa/eisdata.html. Including the entire EIS comment letters on the Web site satisfies the Section 309(a) requirement to make EPA's comments on EISs available to the public. Accordingly, on March 31, 2010, EPA discontinued the publication of the notice of availability of EPA comments in the Federal Register.

Pursuant to 40 CFR 1506.9.

EIS No. 20110145, Final EIS, USFWS, TX, Hays County Regional Habitat Conservation Plan, Application for an Incidental Take Permit, Hays County, TX, Review Period Ends: 06/20/2011, Contact: Adam Zerrenner 512-490-0057.

EIS No. 20110146, Draft EIS, NPS, 00, Yellowstone National Park Draft Winter Use Plan, To Establish a Management Framework, Implementation, WY, MT and ID, Comment Period Ends: 07/18/2011, Contact: David Jacob 303-987-6970.

EIS No. 20110147, Final EIS, USACE, MO, PROGRAMMATIC—Mechanical Creation and Maintenance of Emergent Sandbar Habitat in the Riverine Segments of the Upper Missouri River, To Support Least Tern and Piping Plover Populations, Implementation, MO, Review Period Ends: 06/20/2011, Contact: Cynthia S. Upah 402-995-2672.

EIS No. 20110148, Final EIS, USACE, TX, Rusk Permit Area, Proposes to Construct, Operate, and Reclaim Permit Area, Expansion of Existing South Hallsville No. 1 Mine. Issuance of Section 404 Permit, Rusk, Harrison and Panola Counties, TX, Review Period Ends: 06/20/2011, Contact: Darvin Messer 817-886-1744.

EIS No. 20110149, Draft EIS, USFS, MT, Troy Mine Revised Reclamation Plan, Proposed Revision is to Return Lands Disturbed by Mining to a Condition Appropriate for Subsequent Use of the Area, Kootenai National Forest, MT, Comment Period Ends: 07/05/2011, Contact: Bobbie Loaklen 406-283-7681.

EIS No. 20110150, Final EIS, DOE, ID, ADOPTION—Areva Eagle Rock Enrichment Facility, Construct, Operate, and Decommission, Proposed Facility would Enrich Uranium for Use in Commercial Nuclear Fuel for Power Reactors, Bonneville County, ID, Review Period Ends: 06/20/2011, Contact: Matthew McMillen 202-586-7248.

U.S. DOE has adopted the NRC'S FEIS #20110045, filed 02/14/2011.

DOE was not a Cooperating Agency for the above FEIS; recirculation of the document is necessary under 40 CFR Part 1506.3(b).

EIS No. 20110151, Final EIS, USAF, UT, White Elk Military Operations Area, Propose to Establish a New Military Operations Area (MOA) Linked to the Utah Test, Utah and Training Range (UTTR) Airspaces Nevada, Hill Air Force Base, UT and Nevada, Review Period Ends: 06/20/2011, Contact: Linda Devine 757-764-9434.

EIS No. 20110152, Final EIS, FHWA, CA, Jepson Parkway Project, Proposes to Upgrade and Link a Series of Existing Two and Four-Lane Roadways, Right-of-Way, Endangered Species Act Section 7 and U.S. Army COE Section 404 Permits, Solano County, CA, Review Period Ends: 06/20/2011, Contact: Melanie Brent 510-286-5231.

EIS No. 20110153, Final EIS, DOE, OH, ADOPTION—American Centrifuge Plant, Gas Centrifuge Uranium Enrichment Facility, Construction, Operation, and Decommission, License Issuance, Piketon, OH, Review Period Ends: 06/20/2011, Contact: Mathew McMillen 202-586-7248.

U.S. DOE has adopted the NRC'S FEIS #20060189, filed 05/11/2006.

DOE was not a Cooperating Agency for the above FEIS; recirculation of the document is necessary under 40 CFR Part 1506.3(b).

EIS No. 20110154, Final EIS, NRC, MN, Generic—License Renewal of Nuclear Plants for the Prairie Island Nuclear Generating Plant, Units 1 and 2, Supplement 39, NUREG-1437, Implementation, City of Red Wing, Dakota County, MN, Review Period Ends: 06/20/2011, Contact: Elaine Keegan 301-415-8517.

EIS No. 20110155, Final EIS, NPS, WI, Apostle Islands National Lakeshore General Management Plan/Wilderness Management Plan, Implementation, Bayfield and Ashland Counties, WI, Review Period Ends: 06/20/2011, Contact: Nick Chevance 402-661-1844.

EIS No. 20110156, Final EIS, NRC, TX, Comanche Peak Nuclear Power Plant Units 3 and 4, Application for Combined Licenses (COLs) for Construction Permits and Operating Licenses, (NUREG-1943), Hood and Somervell Counties, TX, Review Period Ends: 06/20/2011, Contact: Michael H. Willingham 301-415-3924.

EIS No. 20110157, Final EIS, NRC, MD, Calvert Cliffs Nuclear Power Plant Unit 3, Application for Combined License for Construct and Operate a New Nuclear Unit, NUREG 1936, Calvert County, MD, Review Period Ends: 06/20/2011, Contact: Laura Quinn 301-415-2220.

Amended Notices

EIS No. 20110130, Draft Supplement, NNSA, NM, Nuclear Facility of the Chemistry and Metallurgy Research Replacement Project, To Address New Geologic Information Regarding Seismic Conditions at the Site, Los Alamos National Laboratory, Los Alamos, NM, Comment Period Ends: 06/28/2011, Contact: John Tegtmeier 505-665-0113.

Review of Notice of FR Published 04/29/2011: Extending Comment Period from 06/13/2011 to 06/28/2011.

Dated: May 17, 2011.
Robert W. Hargrove,
Director, NEPA Compliance Division, Office of Federal Activities.

[FR Doc. 2011-12450 Filed 5-19-11; 8:45 am]

BILLING CODE 6560-50-P